DEPARTMENT OF THE INTERIOR

Fish and Wildlife Service

DEPARTMENT OF COMMERCE

National Oceanic and Atmospheric Administration

[I.D. 082106A]

Notice of Availability of a Final Record of Decision on the Issuance of Permits

AGENCIES: Fish and Wildlife Service (FWS), Interior; National Marine Fisheries Service (NMFS), National Oceanic and Atmospheric Administration (NOAA), Commerce.

ACTION: Notice of availability of Final Record of Decision and issuance of permits.

SUMMARY: The U.S. Fish and Wildlife Service and the National Marine Fisheries Service (Services) announce the availability of a Final Record of Decision on the issuance of incidental take permits to the state of Washington under section 10 of the Endangered Species Act for the Washington Forest Practices Habitat Conservation Plan (HCP). The two incidental take permits (one from each of the Services) authorize incidental take of aquatic species (16 listed fish species, 54 unlisted fish species, and 7 unlisted amphibian species) from covered forest practices implemented under the HCP. These forest practices affect approximately 9 million acres of non-Federal and non-tribal lands in Washington State. The permits were issued on June 5, 2006, and will remain in effect for 50 years.

FOR FURTHER INFORMATION CONTACT: For further information, or to receive copies of the documents, please contact Sally Butts, Project Manager, FWS, (360) 753-5832; or Laura Hamilton, Project Manager, NMFS, (360) 753-5820.

SUPPLEMENTARY INFORMATION: This notice advises the public that the Services gathered the information necessary to; (1) determine impacts and formulate alternatives for the EIS related to the issuance of incidental take permits to the state of Washington; and (2) develop and implement the HCP, which describes the measures to minimize and mitigate the effects of the incidental take of federally listed species to the maximum extent practicable. The notice of availability for the draft EIS, draft Forest Practices HCP, and draft Implementing Agreement was published in the Federal Register on February 11, 2005 (70 FR 7245), and the notice of availability for the Final EIS, Final Forest Practices HCP, and Implementing Agreement was published in the Federal Register on January 27, 2006 (71 FR 4609). Copies of the Record of Decision, which was signed on June 5, 2006, are available from the Services. (see FOR FURTHER INFORMATION CONTACT for contact information).

Dated: September 19, 2006.
David Wesley,
Deputy Regional Director, Fish and Wildlife Service, Region 1, Portland, Oregon

Dated: September 19, 2006.
Angela Somma,
Chief, Endangered Species Division, Office of Protected Resources, National Marine Fisheries Service.

[FR Doc. E6-15761 Filed 9-25-06; 8:45 am]

BILLING CODE 4310-55-S and 3510-22-S